DEPARTMENT OF HOMELAND SECURITY

Federal Emergency Management Agency

[Docket ID FEMA-2014-0002; Internal Agency Docket No. FEMA-B-1356]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 4, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1356, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Stephenson County, Illinois, and Incorporated Areas
Maps Available for Inspection Online at: http://www.fema.gov/preliminaryfloodhazarddata
City of Freeport | Freeport City Hall, 524 West Stephenson Street, Freeport, IL 61032.
Unincorporated Areas of Stephenson County | Stephenson County Planning and Zoning Department, 295 West Lamm Road, Freeport, IL 61032.
Village of Ridott | Ridott Village Hall, 200 East 3rd Street, Ridott, IL 61067.
Village of Winslow | Winslow Village Hall, 501 School Street, Winslow, IL 61089.
Whitley County, Indiana, and Incorporated Areas
Maps Available for Inspection Online at: http://www.fema.gov/preliminaryfloodhazarddata
City of Columbia City | Columbia City/Whitley County Joint Planning and Building Department, Whitley County Government Center, Suite 204, 220 West Van Buren Street, Columbia City, IN 46725.
Town of South Whitley | Columbia City/Whitley County Joint Planning and Building Department, Whitley County Government Center, Suite 204, 220 West Van Buren Street, Columbia City, IN 46725.
Unincorporated Areas of Whitley County | Columbia City/Whitley County Joint Planning and Building Department, Whitley County Government Center, Suite 204, 220 West Van Buren Street, Columbia City, IN 46725.
Jones County, Iowa, and Incorporated Areas
Maps Available for Inspection Online at: http://www.fema.gov/preliminaryfloodhazarddata
City of Monticello | City Hall, 200 East 1st Street, Monticello, IA 52310.
Unincorporated Areas of Jones County | Jones County Engineer's Office, 19501 Highway 64, Anamosa, IA 52205.
Ringgold County, Iowa, and Incorporated Areas
Maps Available for Inspection Online at: http://www.fema.gov/preliminaryfloodhazarddata
City of Benton | Ringgold County Courthouse, 109 West Madison Street, Mount Ayr, IA 50854.
City of Diagonal | City Hall, 601 West Eight Street, Diagonal, IA 50854.
City of Maloy | City Hall, 204 Carter Street, Maloy, IA 50836.
City of Mount Ayr | City Hall, 200 South Taylor Street, Mount Ayr, IA 50854.
City of Shannon City | City Hall, 302 Union Street, Shannon City, IA 50861.
Unincorporated Areas of Ringgold County | Ringgold County Courthouse, 109 West Madison Street, Mount Ayr, IA 50854.
Suffolk County, Massachusetts (All Jurisdictions)
Maps Available for Inspection Online at: http://www.fema.gov/preliminaryfloodhazarddata
City of Boston | City Hall, One City Hall Square, Boston, MA 02201.
City of Chelsea | City Hall, 500 Broadway, Chelsea, MA 02150.
City of Revere | City Hall, 281 Broadway, Revere, MA 02151.
Town of Winthrop | Town Hall, One Metcalf Square, Winthrop, MA 02152.
Allen County, Ohio, and Incorporated Areas
Maps Available for Inspection Online at: http://www.fema.gov/preliminaryfloodhazarddata
Unincorporated Areas of Allen County | Allen County Courthouse, 301 North Main Street, Lima, OH 45801.
Village of Bluffton | Village Hall, 154 North Main Street, Bluffton, OH 45817.
Village of Lafayette | Village Hall, 225 East Sugar Street, Lima, OH 45801.
Licking County, Ohio, and Incorporated Areas
Maps Available for Inspection Online at: http://www.fema.gov/preliminaryfloodhazarddata
City of Heath | Municipal Building, 1287 Hebron Road, Heath, OH 43056.
City of Newark | City Hall, 40 West Main Street, Newark, OH 43055.
City of Pataskala | City Hall, 621 West Broad Street, Pataskala, OH 43062.
City of Reynoldsburg | City Hall, 7232 East Main Street, Reynoldsburg, OH 43068.
Unincorporated Areas of Licking County | The Donald D. Hill County Administration Building, 20 South Second Street, Newark, OH 43055.
Village of Alexandria | Village Office, 4 West Main Street, Alexandria, OH 43001.
Village of Granville | Village Office, 141 East Broadway, Granville, OH 43023.
Village of Hanover | Village Office, 200 New Home Drive NE, Newark, OH 43055.
Village of Hartford | Hartford Village Town Hall, 2 North High Street, Croton, OH 43013.
Village of Hebron | Village Office, 934 West Main Street, Hebron, OH 43025.
Village of Johnstown | Village Office, 599 South Main Street, Johnstown, OH 43031.
Village of Kirkersville | Kirkersville Mayor's Office, 135 North Fourth Street, Kirkersville, OH 43033.
Village of Utica | Village Office, 39 Spring Street, Utica, OH 43080.
Marion County, Ohio, and Incorporated Areas
Maps Available for Inspection Online at: http://www.fema.gov/preliminaryfloodhazarddata
Unincorporated Areas of Marion County | Marion County Building, 222 West Center Street, Marion, OH 43302.
Village of Waldo | Village Hall, 102 North Marion Street, Waldo, OH 43356.
King County, Washington, and Incorporated Areas
Maps Available for Inspection Online at: http://www.fema.gov/preliminaryfloodhazarddata
City of Seattle | City Hall, 600 4th Avenue, Seattle, WA 98124.
Rock County, Wisconsin, and Incorporated Areas
Maps Available for Inspection Online at: http://www.fema.gov/preliminaryfloodhazarddata
City of Beloit | City Hall, 100 State Street, Beloit, WI 53511.
City of Brodhead | City Hall, 1111 West 2nd Avenue, Brodhead, WI 53520.
City of Edgerton | City Hall, 12 Albion Street, Edgerton, WI 53534.
City of Evansville | City Hall, 31 South Madison Street, Evansville, WI 53536.
City of Janesville | City Hall, 18 North Jackson Street, Janesville, WI 53545.
City of Milton | City Hall, 430 East High Street, Milton, WI 53563.
Unincorporated Areas of Rock County | Rock County Courthouse, 51 South Main Street, Janesville, WI 53545.
Village of Clinton | Village Hall, 301 Cross Street, Clinton, WI 53525.
Village of Footville | Village Hall, 156 Depot Street, Footville, WI 53537.
Washington County, Wisconsin, and Incorporated Areas
Maps Available for Inspection Online at: http://www.fema.gov/preliminaryfloodhazarddata
City of Hartford | City Hall, 109 North Main Street, Hartford, WI 53027.
Unincorporated Areas of Washington County | Washington County Government Center, 432 East Washington Street, West Bend, WI 53095.
Village of Richfield | Village Hall, 4128 Hubertus Road, Hubertus, WI 53033.
Village of Slinger | Village Hall, 300 Slinger Road, Slinger, WI 53086.

(Catalog of Federal Domestic Assistance No. 97.022, “Flood Insurance.”)

Dated: January 31, 2014.
Roy E. Wright,
Deputy Associate Administrator for Mitigation, Department of Homeland Security, Federal Emergency Management Agency.

[FR Doc. 2014-04909 Filed 3-5-14; 8:45 am]

BILLING CODE 9110-12-P